ENVIRONMENTAL PROTECTION AGENCY

[EPA-HQ-OECA-2013-0337; FRL—9993-67-OMS]

Information Collection Request Submitted to OMB for Review and Approval; Comment Request; NESHAP for Portland Cement Manufacturing Industry (Renewal)

AGENCY: Environmental Protection Agency (EPA).

ACTION: Notice.

SUMMARY: The Environmental Protection Agency (EPA) has submitted an information collection request (ICR), NESHAP for Portland Cement Manufacturing Industry (EPA ICR Number 1801.13, OMB Control Number 2060-0416), to the Office of Management and Budget (OMB) for review and approval in accordance with the Paperwork Reduction Act. This is a proposed extension of the ICR, which is currently approved through May 31, 2019. Public comments were previously requested, via the Federal Register, on May 30, 2018 during a 60-day comment period. This notice allows for an additional 30 days for public comments. A fuller description of the ICR is given below, including its estimated burden and cost to the public. An agency may neither conduct nor sponsor, and a person is not required to respond to, a collection of information unless it displays a currently valid OMB control number.

DATES: Additional comments may be submitted on or before July 3, 2019.

ADDRESSES: Submit your comments, referencing Docket ID Number EPA-HQ-OECA-2013-0337, to: (1) EPA online using www.regulations.gov (our preferred method), or by email to docket.oeca@epa.gov, or by mail to: EPA Docket Center, Environmental Protection Agency, Mail Code 28221T, 1200 Pennsylvania Ave. NW, Washington, DC 20460; and (2) OMB via email to oira_submission@omb.eop.gov. Address comments to OMB Desk Officer for EPA.

EPA's policy is that all comments received will be included in the public docket without change, including any personal information provided, unless the comment includes profanity, threats, information claimed to be Confidential Business Information (CBI), or other information whose disclosure is restricted by statute.

FOR FURTHER INFORMATION CONTACT: Patrick Yellin, Monitoring, Assistance, and Media Programs Division, Office of Compliance, Mail Code 2227A, Environmental Protection Agency, 1200 Pennsylvania Ave. NW, Washington, DC 20460; telephone number: (202) 564-2970; fax number: (202) 564-0050; email address: yellin.patrick@epa.gov.

SUPPLEMENTARY INFORMATION: Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit: http://www.epa.gov/dockets.

Abstract: The National Emission Standards for Hazardous Air Pollutants (NESHAP) for Portland Cement Manufacturing Industry (40 CFR part 63, subpart LLL) apply to affected facilities at each new and existing portland cement manufacturing plant that is either a major or area source, including each: Kiln including alkali bypasses and inline coal mills; clinker cooler; raw mill; finish mill; raw material dryer; or open clinker storage pile. These regulations apply to each new and existing categories: Raw material, clinker or finished product storage bin; conveying system transfer point including those associated with coal preparation used to convey coal from the mill to the kiln; and bagging and bulk loading and unloading system piles located at any portland cement manufacturing plant that is a major source. These regulations do not apply to cement kilns that burn hazardous waste and are subject to 40 CFR part 63, subpart EEE, or to cement kilns that burn nonhazardous solid waste and are subject to the requirements of 40 CFR part 60, subpart CCCC, or 40 CFR part 60, subpart DDDD. This information is being collected to assure compliance with 40 CFR part 63, subpart LLL.

In general, all NESHAP standards require initial notifications, performance tests, and periodic reports by the owners/operators of the affected facilities. They are also required to maintain records of the occurrence and duration of any startup, shutdown, or malfunction in the operation of an affected facility, or any period during which the monitoring system is inoperative. These notifications, reports, and records are essential in determining compliance, and are required of all affected facilities subject to NESHAP.

Form Numbers: None.

Respondents/affected entities: These regulations apply to affected facilities at each new and existing portland cement manufacturing plant that is a major or area source, including each: Kiln including alkali bypasses and inline coal mills; clinker cooler; raw mill; finish mill; raw material dryer; or open clinker storage pile. These regulations apply to each new and existing: Raw material, clinker or finished product storage bin; conveying system transfer point including those associated with coal preparation used to convey coal from the mill to the kiln; and bagging and bulk loading and unloading system piles located at any portland cement manufacturing plant that is a major source. These regulations do not apply to cement kilns that burn hazardous waste and are subject to 40 CFR part 63, subpart EEE, or to cement kilns that burn nonhazardous solid waste and are subject to the requirements of 40 CFR part 60, subpart CCCC, or 40 CFR part 60, subpart DDDD. This information is being collected to assure compliance with 40 CFR part 63, subpart LLL.

Respondent's obligation to respond: Mandatory (40 CFR part 63, subpart LLL).

Estimated number of respondents: 40 (total).

Frequency of response: Semiannually and annually.

Total estimated burden: 12,200 hours (per year). Burden is defined at 5 CFR 1320.3(b).

Total estimated cost: $6,100,000 (per year), which includes $4,730,000 in annualized capital/startup and/or operation & maintenance costs.

Changes in the Estimates: There is an adjustment decrease in the total estimated burden as currently identified in the OMB Inventory of Approved Burdens. The adjustment decrease in burden from the most recently-approved ICR is due to a decrease in the number of sources subject to requirement of 40 CFR part 63, subpart LLL. The EPA determined that many of the cement kilns previously thought subject to 40 CFR part 63, subpart LLL are already subject to 40 CFR part 63, subpart EEE, 40 CFR part 60, subpart CCCC, or 40 CFR part 60, subpart DDDD, and would not fall under the applicability of this subpart. The decrease in the number of respondents also results in a decrease in the number of responses and operation and maintenance costs. Additionally, Table 1 was revised and reformatted to properly reflect the performance testing requirements for new and existing facilities as stated in subpart LLL.

Courtney Kerwin,
Director, Regulatory Support Division.

[FR Doc. 2019-11568 Filed 5-30-19; 4:15 pm]

BILLING CODE 6560-50-P